DEPARTMENT OF ENERGY

Advance Notice of Intent To Prepare an Environmental Impact Statement for Depleted Uranium Hexafluoride Conversion Facilities

AGENCY: Department of Energy.

ACTION: Advance notice of intent.

SUMMARY: The U.S. Department of Energy (DOE) is providing advance notice of its intent to prepare an Environmental Impact Statement (EIS) under the National Environmental Policy Act (NEPA) on the proposed construction, operation, and decontamination/decommissioning of two depleted uranium hexafluoride (DUF6) conversion facilities, at Portsmouth, Ohio and Paducah, Kentucky. DOE intends to use the proposed facilities to convert its inventory of DUF6 to a more stable chemical form suitable for storage, beneficial use or disposal. Approximately 700,000 metric tons of DUF6 in about 57,700 cylinders are stored at DOE's Paducah, Portsmouth, and Oak Ridge, Tennessee, sites.

DOE is issuing this Advance Notice pursuant to 10 CFR 1021.31(b) to inform the public and interested parties early about the proposed action, the range of alternatives, and the nature of impact analysis to be considered in the EIS. DOE intends later to issue a formal Notice of Intent (NOI) and conduct a public scoping process during which DOE will invite the public to comment on the scope, proposed action, and possible alternatives considered in the EIS. DOE seeks comments on this Advance Notice, and they can be submitted as explained below.

DATES: DOE plans to issue the NOI later this year. After the NOI is issued, DOE will conduct public scoping meetings to assist in defining the scope of the EIS and to identify significant issues to be addressed. The dates and locations of all scoping meetings will be announced in the NOI or subsequent Federal Register notices and in local media before the meetings.

ADDRESSES: Please direct comments or suggestions on the scope of the EIS and questions concerning the proposed project to: Kevin Shaw, U.S. Department of Energy, Office of Environmental Management, Office of Site Closure—Oak Ridge Office (EM-32), 19901 Germantown Road, Germantown, Maryland 20874, fax (301) 903-2978, e-mail DUF6.Comments@em.doe.gov (please use ‘A-NOI Comments’ for the subject).

For general information on the DOE NEPA process, please contact Carol M. Borgstrom, Director, Office of NEPA Policy and Compliance, EH-42, U.S. Department of Energy, 1000 Independence Avenue, SW., Washington, DC 20585-0119, telephone (202) 586-4600 or leave a message at (800) 472-2756.

SUPPLEMENTARY INFORMATION:

Background

Depleted UF6 results from the process of making uranium suitable for use as fuel in nuclear reactors or for military applications. The use of uranium in these applications requires increasing the proportion of the uranium-235 isotope found in natural uranium, which is approximately 0.7% (by weight), through an isotopic separation process. A U-235 “enrichment” process called gaseous diffusion has historically been used in the United States. The gaseous diffusion process uses uranium in the form of UF6, primarily because UF6 can conveniently be used in the gas form for processing, in the liquid form for filling or emptying containers, and in the solid form for storage. Solid UF6 is a white, dense, crystalline material that resembles rock salt.

Over the last five decades, large quantities of uranium were enriched using gaseous diffusion. “Depleted” UF6 (DUF6) is a product of the process and was stored at the three uranium enrichment sites located at Paducah, Kentucky; Portsmouth, Ohio; and the East Tennessee Technology Park (ETTP—formerly known as the K-25 Site) in Oak Ridge, Tennessee. Depleted uranium is uranium that, through the enrichment process, has been stripped of a portion of the uranium-235 that it once contained so that it has a lower uranium-235 proportion than the 0.7 weight-percent found in nature. The uranium in most of DOE's DUF6 has between 0.2 to 0.4 weight-percent uranium-235.

DOE has management responsibility for approximately 700,000 metric tons (MT) of DUF6 contained in about 57,700 steel cylinders at the Portsmouth, Paducah, and ETTP sites, where it has stored such material since the 1950s. The characteristics of UF6 pose potential health and environmental risks. UF6 emits low levels of gamma and neutron radiation. Also, when released to the atmosphere, UF6 reacts with water vapor in the air to form hydrogen fluoride (HF) and uranyl fluoride (UO2F2), both chemically toxic substances. In light of such characteristics, DOE stores UF6 in a manner designed to minimize the risk to workers, the public, and the environment.

In October 1992, the Ohio Environmental Protection Agency (OEPA) issued a Notice of Violation (NOV) alleging that DUF6 stored at the Portsmouth facility is subject to regulation under state hazardous waste laws applicable to the Portsmouth Gaseous Diffusion Plant. The NOV stated that OEPA had determined DUF6 to be a solid waste and that DOE had violated Ohio laws and regulations by not evaluating whether such waste was hazardous. DOE disagreed with this assessment, and in February 1998, DOE and OEPA reached an agreement. This agreement sets aside the issue of whether the DUF6 is subject to Resource Conservation and Recovery Act regulation and institutes a negotiated management plan governing the storage of the Portsmouth DUF6. The agreement also requires DOE to continue its efforts to evaluate potential use or reuse of the material. The agreement expires in 2008.

In 1994, DOE began work on the Programmatic Environmental Impact Statement for Alternative Strategies for the Long-Term Management and Use of Depleted Uranium Hexafluoride (DUF6 PEIS). The DUF6 PEIS was completed in 1999 and identified conversion of DUF6 to another chemical form for use or long-term storage as part of a preferred management alternative. In the corresponding Record of Decision for the Long-Term Management and Use of Depleted Uranium Hexafluoride (ROD) (64 FR 43358, August 10, 1999), DOE decided to promptly convert the DUF6 inventory to depleted uranium oxide, depleted uranium metal, or a combination of both. The ROD further explained that depleted uranium oxide will be used as much as possible and the remaining depleted uranium oxide will be stored for potential future uses or disposal, as necessary. In addition, according to the ROD, conversion to depleted uranium metal will occur only if uses are available.

During the time that DOE was analyzing its long-term strategy for managing the DUF6 inventory, several other events occurred related to DUF6 management. In 1995, the Department began an aggressive program to better manage the DUF6 cylinders, known as the DUF6 Cylinder Project Management Plan. In part, this program responded to the Defense Nuclear Facilities Safety Board (DNFSB) Recommendation 95-1, Safety of Cylinders Containing Depleted Uranium. This program included more rigorous and frequent inspections, a multi-year program for painting and refurbishing of cylinders, and construction of concrete-pad cylinder yards. Implementation of the DUF6 Cylinder Project Management Plan has been successful, and, as a result, on December 16, 1999, the DNFSB closed out Recommendation 95-1.

In February 1999, DOE and the Tennessee Department of Environment and Conservation (TDEC) entered into a consent order which included a requirement for the performance of two environmentally beneficial projects: the implementation of a negotiated management plan governing the storage of the small inventory (relative to other sites) of all UF6 (depleted, low enriched, and natural) cylinders stored at the ETTP site, and the removal of the DUF6 from the ETTP site or the conversion of the material by December 31, 2009.

In July 1998, the President signed Public Law (Pub. L.) 105-204. This law directed the Secretary of Energy to prepare “a plan to ensure that all amounts accrued on the books” of the United States Enrichment Corporation (USEC) for the disposition of DUF6 would be used to commence construction of, not later than January 31, 2004, and to operate, an onsite facility at each of the gaseous diffusion plants at Paducah and Portsmouth, to treat and recycle DUF6 consistent with the National Environmental Policy Act (NEPA). DOE responded to Pub. L. 105-204 by issuing the Final Plan for the Conversion of Depleted Uranium Hexafluoride (referred to herein as the “Conversion Plan”) in July 1999. The Conversion Plan describes DOE's intent to chemically process the DUF6 to create products that would present both a lower long-term storage hazard and provide a material that would be suitable for use or disposal.

DOE initiated the Conversion Plan with the announced availability of a draft Request for Proposals (RFP) on July 30, 1999, for a contractor to design, construct, and operate DUF6 conversion facilities at the Paducah and Portsmouth uranium enrichment plant sites. Based on comments received on the draft RFP, DOE revisited some of the assumptions about management of the DUF6 inventory made previously in the PEIS and ROD. For example, as documented in the Oak Ridge National Laboratory study, Assessment of Preferred Depleted Uranium Disposal Forms (ORNL/TM-2000/161, June 2000), four potential conversion forms (triuranium octoxide (U308), uranium dioxide (U02), uranium tetrafluoride (UF4), and uranium metal) were evaluated and found to be acceptable for near-surface disposal at low-level radioactive waste disposal sites such as those at DOE's Nevada Test Site and Envirocare of Utah, Inc. Therefore, the RFP was modified to allow for a wide range of potential conversion product forms and process technologies. However, any of the proposed conversion forms must have an assured, environmentally acceptable path for final disposition.

On October 31, 2000, DOE issued a final RFP to procure a contractor to design, construct and operate DUF6 conversion facilities at the Paducah and Portsmouth plant sites. The conversion plants that result from this procurement will convert the DUF6 to a more stable chemical form that is suitable for either beneficial use or disposal. The selected contractor will design the conversion plants using the technology it proposes and construct the plants. The selected contractor also will operate the plants for a five-year period, which will include maintaining depleted uranium and product inventories, transporting all uranium hexafluoride storage cylinders in Tennessee to a conversion plant at Portsmouth, as appropriate, and transporting converted product for which there is no use to a disposal site. The selected contractor will be expected to prepare excess material for disposal at an appropriate site. DOE is evaluating the five proposals it received and anticipates awarding a contract during the first quarter of 2002. Since the site specific NEPA process will not be completed prior to contract award, the contract will be structured such that the NEPA process will be completed in advance of a go/no-go decision. (See NEPA Process below.)

Purpose and Need for Agency Action

DOE needs to convert its inventory of DUF6 to a more stable chemical form for storage, use or disposal. This need follows directly from the decision presented in the August 1999 Record of Decision for Long-Term Management and Use of Depleted Uranium Hexafluoride, namely to begin conversion of the DUF6 inventory as soon as possible.

This EIS will assess the potential environmental impacts of constructing, operating and decontaminating/decommissioning DUF6 conversion facilities at the Portsmouth and Paducah sites, as well as other reasonable alternatives. The EIS will aid decisionmaking on DUF6 conversion by evaluating the environmental impacts of the range of reasonable alternatives, as well as providing a means for public input into the decisionmaking process. The Department is committed to ensuring that the public has ample opportunity to participate in this review.

Preliminary Alternatives

Below is a preliminary list of alternatives to be considered in the EIS. This list of alternatives is subject to modifications in response to comments received during the public scoping process.

Preferred Alternative. Under the preferred alternative, two conversion facilities would be built: One at the Paducah Gaseous Diffusion Plant site and another at the Portsmouth Gaseous Diffusion Plant site. The cylinders currently stored at the ETTP site near Oak Ridge, Tennessee, would be transported to Portsmouth for conversion. The conversion products (i.e., depleted uranium as well as fluorine components produced during the conversion process) would be stored, put to beneficial uses, or disposed of at an appropriate disposal facility. This alternative is consistent with the Conversion Plan, which DOE submitted to Congress in July 1999, in response to Pub. L. 105-204. Technology subalternatives for the preferred alternative will include those technology processes identified in response to the final RFP for DUF6 conversion services, plus any other technologies that DOE believes must be considered. (Technologies specify the processes used for conversion and the products of conversion.) Local siting subalternatives for building and operating conversion facilities within the Paducah and Portsmouth plant boundaries will be considered. Timing options, such as staggering the start of the construction and operation of the two conversion facilities, will also be considered for the preferred alternative.

One Conversion Plant Alternative. An alternative of building and operating only one conversion facility at either the Portsmouth or the Paducah site will be considered. This plant could differ in size or production capacity from the two proposed for Portsmouth and Paducah. Technology and local siting subalternatives will be considered as with the preferred alternative.

Use of Existing UF6 Conversion Capacity Alternative. DOE will consider using already-existing UF6 conversion capacity at commercial nuclear fuel fabrication facilities in lieu of constructing one or two new conversion plants. DOE is currently evaluating the feasibility of using existing conversion capacity, although no expression of interest has been received from such facilities.

No Action Alternative. Under the “no action” alternative, cylinder management activities (handling, inspection, monitoring, and maintenance) would continue the “status quo” at the three current storage sites indefinitely, consistent with the DUF6 Cylinder Project Management Plan and the consent orders, which includes actions needed to meet safety and environmental requirements.

Where applicable under the alternatives listed above, transportation options, such as truck, rail, and barge, will be considered for shipping DUF6 cylinders to a conversion facility and conversion products to a storage or disposal facility. Also, for each technology alternative, alternatives for conversion products, including storage, use, and disposal at one or more disposal sites, will be considered. Further, DOE would appreciate comments regarding whether there are additional siting alternatives for one or more new conversion facilities that should be considered.

Preliminary Environmental Analysis

This EIS represents the second level of a tiered environmental review process being used to evaluate and implement the DUF6 management program. Tiering refers to the process of first addressing general (programmatic) matters in a PEIS followed by more narrowly focused (project level) environmental review that incorporates by reference the more general discussions. The DUF6 PEIS, issued in April 1999, was the first level of this tiered approach.

The DUF6 PEIS addressed the potential environmental impacts of broad strategy alternatives, including analyses of the general impacts of (1) continued storage of DUF6 at DOE's current storage sites, (2) technologies for converting the DUF6 to other chemical forms, (3) storage of conversion products for subsequent use or disposal, (4) use of conversion products, (5) transportation of materials, and (6) disposal. The ROD for the DUF6 PEIS declared DOE's decision to promptly convert the DUF6 inventory to a more stable chemical form. This tiered EIS will address specific issues associated with the implementation of the DUF6 PEIS ROD.

NEPA Process

The EIS for the proposed project will be prepared pursuant to the NEPA of 1969 (42 U.S.C. 4321 et seq.), Council on Environmental Quality (CEQ) NEPA Regulations (40 CFR Parts 1500—1508), and DOE's NEPA Implementing Procedures (10 CFR Part 1021). Following the publication of the Notice of Intent, DOE will hold scoping meetings, prepare and distribute the draft EIS for public review, hold public hearings to solicit public comment on the draft EIS, and publish a final EIS. Not less than 30 days after the publication of the U.S. Environmental Protection Agency's (EPA's) Notice of Availability of the final EIS, DOE may issue a ROD documenting its decision concerning the proposed action.

In addition to the above steps, DOE will consider environmental factors in selecting a contractor for the conversion services through the procurement process, including preparation of an environmental critique and synopsis pursuant to 10 CFR 1021.216. The environmental critique will evaluate the environmental data and information submitted by each offeror and will be subject to the confidentiality requirements of the procurement process. DOE will prepare a publicly available environmental synopsis, based on the environmental critique, to document the consideration given to environmental factors in the contractor selection process. The environmental synopsis will be filed with the EPA and will be incorporated into the EIS. In accordance with 10 CFR 1021.216(i), since the NEPA process will not be completed prior to contract award, the contract will be structured to allow the NEPA review process to be completed in advance of a go/no-go decision.

Preliminary Identification of EIS Issues

DOE intends to address the following issues when assessing the potential environmental impacts of the alternatives in this EIS. Potential environmental impacts will be evaluated for the site-specific conditions found at the Portsmouth, Paducah, and ETTP sites, and at other sites, as appropriate. DOE invites comment on these and any other issues that should be addressed in the EIS:

—Potential effects on the public and workers from exposure to radiological and hazardous materials from normal operations and reasonably foreseeable accidents at the sites and during transportation of DUF6 cylinders and conversion products between sites.

—Potential effects on air, soil, ecological resources, water quality and cultural resources.

—Potential socioeconomic impacts associated with the workforce needed for construction and operations, and environmental justice issues.

—Compliance with applicable Federal, state, local requirements and agreements.

—Pollution prevention, waste minimization, and energy and water use reduction technologies to eliminate or reduce use of energy, water, and hazardous substances and to minimize environmental impacts.

—Potential impacts on local and DOE-wide waste management capabilities.

—Potential impacts on available resources, including land, materials, and energy.

—Potential cumulative impacts of the past, present, and reasonably foreseeable future actions (including impacts resulting from the activities of the United States Enrichment Corporation).

—Potential irreversible and irretrievable commitment of resources.

—Relationship between short-term use of the environment and long-term productivity.

Related NEPA Reviews

Final Programmatic Environmental Impact Statement for Alternative Strategies for the Long-Term Management and Use of Depleted Uranium Hexafluoride (DOE/EIS-0269, April 1999); Final Waste Management Programmatic Environmental Impact Statement for Managing Treatment, Storage, and Disposal of Radioactive and Hazardous Waste (DOE/EIS-0200-F, May 1997); Disposition of Surplus Highly Enriched Uranium, Final Environmental Impact Statement (DOE/EIS-0240, June 1996); Environmental Assessment for the Refurbishment of Uranium Hexafluoride Cylinder Storage Yards C-745-K, L, M, N, and P and Construction of a New Uranium Hexafluoride Cylinder Storage Yard (C-745-T) at the Paducah Gaseous Diffusion Plant, Paducah, Kentucky (DOE/EA-1118, July 1996); Environmental Assessment for DOE Sale of Surplus Natural and Low Enriched Uranium (DOE/EA-1172, October 1996); and Environmental Assessment for the Lease of Land and Facilities within the East Tennessee Technology Park, Oak Ridge, Tennessee (DOE/EA-1175, 1997).

Scoping Meetings

The purpose of this Advance Notice is to inform the public and interested parties early about DOE's plans to prepare an EIS for proposed DUF6 conversion facilities and to encourage early public involvement in the EIS process. DOE intends to hold public scoping meetings in Oak Ridge, Tennessee; Paducah, Kentucky; and Portsmouth, Ohio, to solicit both oral and written comments from interested parties. The dates and times of such meetings will be announced in the NOI, which DOE plans to issue later this year, or in subsequent Federal Register notices and in local media before the meetings.

Signed in Washington, DC, this 1st day of May, 2001.
Steven V. Cary,
Acting Assistant Secretary, Office of Environment, Safety and Health.

[FR Doc. 01-11384 Filed 5-4-01; 8:45 am]

BILLING CODE 6450-01-P